DEPARTMENT OF AGRICULTURE

Forest Service

Coconino Resource Advisory Committee

AGENCY: Forest Service, USDA.

ACTION: Notice of meeting.

SUMMARY: The Coconino Resource Advisory Committee will meet in Flagstaff, Arizona, to discuss proposal criteria, voting procedures, meeting dates, proposal deadlines, and various operating guideline protocols. No proposals will be heard at this meeting.

DATES: The meeting will be held December 17, 2010, beginning at 12 p.m. to approximately 4 p.m.

ADDRESSES: The meeting will be held in the Ponderosa Room of the Coconino County Health Department, 2625 N. King St., Flagstaff, Arizona 86004. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, Coconino National Forest, (928) 527-3490.

SUPPLEMENTARY INFORMATION: Agenda items for this meeting include (1) Membership changes; (2) Caucus breakout and discussion; (3) Calendaring for future meetings and deadlines for proposals. The meeting is open to the public.

Dated: November 15, 2010.
M. Earl Stewart,
Forest Supervisor, Coconino National Forest.

[FR Doc. 2010-29243 Filed 11-18-10; 8:45 am]

BILLING CODE 3410-11-P